NATIONAL SCIENCE FOUNDATION

Committee on Equal Opportunity in Science and Engineering; Notice of Meeting

In accordance with the Federal Advisory Committee Act Pub. L. 92-463, as amended, the National Science Foundation announces the following meeting:

Name: Committee on Equal Opportunity in Science and Engineering (1173).

Date/Time: June 14, 2001, 8 a.m.-5:45 p.m. and June 15, 2001, 8 a.m.-3 p.m.

Place: Room 1235, National Science Foundation, 4201 Wilson Blvd., Arlington, VA.

Type of Meeting: Open.

Contact Person: Michelle McMurry, Executive Secretary, CEOSE, National Science Foundation, 4201 Wilson Blvd., Arlington, VA 22230, Phone (703) 292-8094.

Minutes: May be obtained from the Executive Secretary at the above address.

Purpose of Meeting: To provide advice and recommendations concerning proposals submitted to NSF for financial support.

Agenda

Thursday, June 14, 2001, 8 AM-5:45 PM

8:00 AM Breakfast with NSF Staff

8:30 AM

Welcome

Approval of February 2001 Minutes

8:45 AM Report of Executive Council Liaison

9:00 AM Historical Summary of Main CEOSE Issues and Overview of Issues to Be Discussed At This Meeting

10:00 AM Discussions with Dr. Bob Suzuki

12:00 PM Lunch

1:00 PM Research Presentation by Dr. Thomas Windham

1:45 Directorate Dialogue: Education and Human Resources

3:45 PM Break

4:00 PM Research Presentation by Dr. Willie Pearson

4:45 PM Committee Discussion I: Reflections of Departing Members

5:45 PM Adjourn for the day

Friday, June 15, 2001, 8 AM-3 PM

8:00 AM Breakfast

8:30 AM Committee Discussion II: Report Planning for 2002

10:30 AM Break

10:45 AM Directorate Dialogue: Geological Sciences

11:45 AM

Lunch

Committee Discussion III: Advisory Committee Reports

1:00 PM Budget Overview, Report Response, and Criterion 2

2:00 PM Committee Discussion IV: Wrap-up and Future Directions

3:00 PM Adjourn

Dated: May 15, 2001.
Susanne Bolton,
Committee Management Officer.

[FR Doc. 01-12595 Filed 5-17-01; 8:45 am]

BILLING CODE 7555-01-M